DEPARTMENT OF THE INTERIOR

Office of the Secretary, Exxon Valdez Oil Spill Trustee Council; Invitation for Comment

AGENCY: Office of the Secretary, Department of the Interior.

ACTION: Notice.

SUMMARY: The Exxon Valdez Oil Spill Trustee Council is asking the public, private organizations, and government agencies to submit comments on the Draft Work Plan for Federal Fiscal Year 2003: Phase II, which implements the Gulf Ecosystem Monitoring and Research Program. The Draft Work Plan is available on the Internet site listed below. Paper copies of the Draft Work Plan are available upon request.

DATES: Comments are due November 25, 2002.

ADDRESSES: Submit comments to Exxon Valdez Oil Spill Trustee Council, 441 West 5th Avenue, Suite 500, Anchorage, Alaska 99501-2340. See SUPPLEMENTARY INFORMATION for additional instructions about submitting comments.

FOR FURTHER INFORMATION CONTACT: The Trustee Council Office, (907) 278-8012 or toll free at (800) 478-7745 (in Alaska) or (800) 283-7745 (outside Alaska) or via Internet at www.oilspill.state.ak.us.

SUPPLEMENTARY INFORMATION: Following the Exxon Valdez oil spill in March 1989, a Trustee Council of three state and three federal trustees, including the Secretary of the Interior, was formed. The Trustee Council prepared a restoration plan for the injured resources and services within the oil spill area. The restoration plan called for annual work plans identifying projects to accomplish restoration. An extension of the Restoration Plan, the Gulf Ecosystem Monitoring and Research Program, also requires implementation through annual work plans. Each year proposals for restoration, monitoring, and research projects are solicited from a variety of organizations, including the public. Comments may be mailed to the above address, telephoned to the above telephone numbers (collect calls will be accepted from fishers and boaters who call through the marine operator), faxed to (907) 276-7178, or e-mailed to paula_banks@oilspill.state.ak.us. Public comment will also be accepted at the Trustee Council meeting, at 10:30 a.m. on Monday, November 25, 2002.

Willie R. Taylor,
Director, Office of Environmental Policy and Compliance.

[FR Doc. 02-29079 Filed 11-14-02; 8:45 am]

BILLING CODE 4310-RG-P